DEPARTMENT OF TRANSPORTATION

Federal Railroad Administration

[Docket No. FRA-2023-0002-N-13]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before January 2, 2024.

ADDRESSES: Written comments and recommendations for the proposed ICR should be submitted on regulations.gov to the docket, Docket No. FRA-2023-0002. All comments received will be posted without change to the docket, including any personal information provided. Please refer to the assigned OMB control number (2130-0621) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Workforce Development Survey.

OMB Control Number: 2130-0621.

Abstract: FRA has statutory responsibility to ensure the safety of railroad operations under 49 U.S.C. 20103. To conduct safe railroad operations, the workforce must have the requisite knowledge and skills to operate equipment and utilize technologies. FRA therefore seeks to promote workforce development policies and standards to ensure that the workforce has the necessary knowledge and skills to conduct safe railroad operations. Due to an increasingly dynamic and maturing workforce, combined with continual changes in knowledge and skills required to use new technologies, there is an increasing risk of not having the necessary talent pools to fill critical railroad operational positions. FRA uses this information collection to survey a select group of railroad industry personnel to gain insight into the current workforce development strategies.

In this 60-day notice, FRA adjusted the respondent universe from 847 to 967 to reflect the current number of passenger railroads, Class I Freight, and short line railroads, labor unions, railroads Associations, and railroad learning institutions. Additionally, FRA adjusted the estimated total annual burden hours from 89 hours to 107 hours and increased the estimated total annual responses from 213 to 258. This increase is a result of expanded outreach and engagement to obtain a more robust view of the industry.

Type of Request: Extension without change (with changes in estimates) of a currently approved collection.

Affected Public: Class I freight and passenger railroads, short line and regional railroads, labor unions, railroad associations, academia, and specialty experts.

Form(s): FRA F 240.

Respondent Universe: 967.

Frequency of Submission: One-time.

Reporting Burden:

Workforce development professionals | Respondent universe | Total annual responses | Average time per responses (minutes) | Total annual burden hours | Total cost equivalent in U.S dollar
|  | (A) | (B) | (C = A * B) | (D = C * wage rates) ¹
Passenger Railroads | 34 railroads | 14 | 25 | 5.83 | $267.07
Class 1 Freight Railroads | 6 railroads | 50 | 25 | 20.83 | 954.22
Short Line & Regional Railroads | 752 railroads | 150 | 25 | 62.50 | 2,863.13
Labor Unions (with specific focus on workforce membership and railroad programs) | 45 labor unions | 12 | 25 | 5.00 | 229.05
Associations (with focus on railroad workforce membership and the rail industry) | 30 railroad associations | 12 | 25 | 5.00 | 229.05
Academia (Learning institutions with dedicated curriculum and training programs for railroad industry) | 100 learning institutions | 20 | 25 | 8.33 | 381.60
Total ² | 967 | 258 | N/A | 107 | 4,924

Total Estimated Annual Responses: 258.

¹ The dollar equivalent cost is derived from the Department of Labor, Bureau of Labor Statistics (BLS), Occupational Employment Statistics (OES), May 22, Management Analyst 13-1111 estimated median hourly wage of 45.81. The wage rate used in the table is 45.81.

² Totals may not add up due to rounding.

Total Estimated Annual Burden: 107.

Total Estimated Annual Burden Hour Dollar Cost Equivalent: $4,924.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-24200 Filed 11-1-23; 8:45 am]

BILLING CODE 4910-06-P